ENVIRONMENTAL PROTECTION AGENCY

[FRL-7469-9]

Notice of Request for Initial Proposals (IP) for Projects To Be Funded From the Water Quality Cooperative Agreement Allocation (CFDA 66.463—Water Quality Cooperative Agreements)

AGENCY: Environmental Protection Agency (EPA).

ACTION: Notice.

SUMMARY: EPA Region 6 is soliciting Initial Proposals (IP) from State water pollution control agencies, interstate agencies, other public or nonprofit agencies, institutions, organizations, and other entities as defined by the Clean Water Act (CWA) interested in applying for Federal assistance for Water Quality Cooperative Agreements under the CWA section 104(b)(3) in the States of Arkansas, Louisiana, New Mexico, Oklahoma and Texas. Region 6 EPA will award an estimated $1 million to eligible applicants through assistance agreements ranging in size, on average, from $40,000 up to $200,000 (Federal) for innovative projects/demonstrations/studies that can be used as models relating to the prevention, reduction, and elimination of water pollution. From the IPs received, EPA estimates up to10 to 12 projects may be selected to submit full applications. The Agency reserves the right to reject all IPs and not make awards. A request for proposals for tribal governments will be issued under a separate notice.

DATES: EPA will consider all proposals received on or before 12 p.m. midnight central standard time May 5, 2003. IPs received after the due date will not be considered for funding.

ADDRESSES: IPs should be mailed to: Terry Mendiola (6WQ-AT), U.S. Environmental Protection Agency, Region 6, Water Quality Protection Division, 1445 Ross Avenue, Dallas, Texas 75202-2733. Overnight delivery may be sent to the same address.

FOR FURTHER INFORMATION CONTACT: Terry Mendiola by telephone at 214-665-7144 or by e-mail at mendiola.teresita@epa.gov.

SUPPLEMENTARY INFORMATION:

Purpose of This Request for Initial Proposals

EPA Region 6's Water Quality Protection Division is requesting proposals from State water pollution control agencies, interstate agencies, other public or nonprofit agencies, institutions, organizations, and other entities as defined by the CWA for unique and innovative projects that address the National Pollutant Discharge Elimination System (NPDES) program with special emphasis on concentrated animal feeding operations (CAFO) permitting, sanitary sewer overflow (SSO) impact studies, watershed integration through NPDES, homeland security, and promotion of “good data” efforts to support NPDES decisions, as well as, water quality projects relating to water quality standards, assessment methods, and reporting, ecoregion and subregion delineation, and improved approaches to total maximum daily load (TMDL) modeling.

An organization whose IP is selected for Federal assistance must complete an EPA Application for Assistance, including the Federal SF-424 form (Application for Federal Assistance, see 40 CFR 30.12 & 31.10). Organizations who have an existing agreement under this program are eligible to compete for new awards.

EPA Region 6 Has Identified the Following High Priority Areas for Consideration

WQCAs awarded under section 104(b)(3) may only be used to conduct and promote the coordination and acceleration of activities such as research, investigations, experiments, training, education, demonstrations, surveys, and studies relating to the causes, effects, extent, prevention, reduction, and elimination of water pollution. These activities, while not defined in the statute, advance the state of knowledge, gather information, or transfer information. For instance, “demonstrations” are generally projects that demonstrate new or experimental technologies, methods, or approaches and the results of the project will be disseminated so that others can benefit from the knowledge gained. A project that is accomplished though the performance of routine, traditional, or established practices, or a project that is simply intended to carry out a task rather than transfer information or advance the state of knowledge, however worthwhile the project may be, is not a demonstration. Research projects may include the application of the practices when they contribute to learning about an environmental concept or problem.

EPA Region 6 has identified several subject areas for priority consideration. EPA will award WQCAs for research, investigations, experiments, training, demonstrations, surveys and studies related to the causes, effects, extent, prevention, reduction, and elimination of water pollution in the following subject areas:

CAFO Permitting Support

Demonstration of treatment/reuse/disposal technologies and controls that are designed to reduce CAFO-based nutrients in watersheds, with a demonstration of amount of loading reductions from those technologies, e.g., handling phosphorus-rich poultry litter in northwest Arkansas/northeast Oklahoma; efficacy of wetlands to polish runoff or overflow from ponds and/or land application processes.

The following specific criteria will be used to evaluate this priority area:

• Demonstrate treatment/reuse/disposal technologies and controls through testing and/or modeling.

• Report on the efficiencies.

Demonstration of nutrient indicator tracing in CAFO dominated, nutrient impaired watersheds, e.g., ribo-typing study to determine source of bacteria and pathogens, or nitrogen-ion study to determine source of nitrogen in waters, or hormone or antibiotic study to determine sources of excreted waste material.

The following specific criteria will be used to evaluate this priority area:

• Demonstrate nutrient indicator tracing in CAFO dominated, nutrient impaired watersheds, with identification and differentiation of sources of animal/CAFO wastes from human wastes.

Sanitary Sewer Overflow Studies

Impact studies and/or innovative implementation processes to control SSOs. Innovative pilot projects associated with collection systems and treatment facilities at the headworks for POTWs, to demonstrate the impact to water quality in receiving waters from control technologies on SSOs, e.g., control technologies to reduce pollutant loads from SSOs with emphasis on innovation.

The following specific criteria will be used to evaluate this priority area:

• Overall cost analysis of technologies or controls to implement on a full or larger scale, estimated O&M costs, and a technical evaluation of treatment, based on mass and volume. Biochemical oxygen demand, total suspended solids, and pathogen evaluations are essential, along with other pertinent pollutant identification and evaluation.

Watershed Integration of Water Programs Under the CWA Through NPDES

Development of innovative permit tool(s) supporting watershed-based permitting activities for specific parameters. Establish a technique for identifying all dischargers and their respective contribution levels for parameter(s) of concern within an impaired watershed. Should determine the overall impact of point and non-point dischargers on receiving waters. Pollutant data for water quality parameters, such as nutrients, dissolved oxygen, fecal coliform, etc., could be used in the development of a model (such as self-implementing general permits) for permitting activities. The model may incorporate unique permitting approaches including effluent trading scenarios (in accordance with the Water Quality Trading Policy, January 13, 2003), which may be implemented in the general permit for specific water quality parameters.

The following specific criteria will be used to evaluate this priority area:

• Include consideration of all waterbodies in a watershed.

• Include consideration of all point sources.

• Consider net contribution of non-point sources in aggregate effects.

• Provide aggregate water quality modeling which determines aggregate affects in the watershed.

Homeland Security for NPDES

Studies of ability of conventional or innovative wastewater treatment plant processes to effectively treat, remove, or render harmless biological, chemical, or radiological agents, which could be introduced into the collection or treatment system.

Development of models for hardening of collection systems, lift stations, and wastewater treatment plant processes to prevent introduction of harmful biological, chemical, or radiological agents.

The following specific criteria will be used to evaluate this priority area:

• Actual performance data of processes vs. technical predictions of performance.

• Enhanced security procedure models and development of model emergency operating plans.

Promotion of “Good Data” Efforts of EPA and State Agencies To Support NPDES Decisions

Survey of laboratories to identify inconsistencies, errors, and adherence to appropriate QA/QC for whole effluent toxicity (WET) testing and test organism culturing.

The following specific criteria will be used to evaluate this priority area:

• Surveying a sampling of the major laboratories in Region 6, which perform whole effluent toxicity (WET) testing for NPDES permittees.

• A minimum of six laboratories shall be surveyed/audited.

• Investigation shall be performed in accordance with “Manual for the Evaluation of Laboratories Performing Aquatic Toxicity Testing EPA/600/4-90/031”, all sampling and testing conditions normally required in NPDES permits issued in EPA Region 6, and requirements contained in 40 CFR part 136 for purposes of ensuring compliance with State narrative criteria for the protection of aquatic life.

Indicators of Ecological Condition

Estimation of the extent of waters supporting their designated beneficial uses, and determination of causes of impairment, based on a core set of indicators of ecological condition and environmental stressors. Biological measures should form the primary basis for assessing attainment of the aquatic life use with chemical, physical, and watershed measurements used to assess and rank the relative importance of stressors.

The following specific criteria will be used to evaluate this priority area:

• Mechanisms to evaluate the interrelationships between biological assemblages, ambient water chemistry, fish tissue contaminants, physical habitat, and/or watershed characteristics.

• Offer the potential to improve a State's approaches to make decisions about whether or not water quality standards are being attained.

• Apply a probabilistic approach to site selection to support estimates of conditions across an entire study area.

• Result in the ability to compare environmental indicator data across State and regional boundaries for ambient and reference conditions.

• Offer the potential to improve a State's approach to estimate the extent of waterbody impairment statewide.

Nutrient Criteria

Development of effects based nutrient criteria and assessment methods, based on the relationship(s) between evidence of impairment of biological integrity, and/or other response indicators, and instream nutrient concentrations observed at reference waterbodies.

The following specific criteria will be used to evaluate this priority area:

• Demonstrate approaches or provide tools that may be applied in other areas.

• Apply the latest scientific approaches or innovative techniques to establish and validate the relationship(s) between elevated nutrient concentrations and indicator response.

• Result in recommendations for numeric water quality criteria standards or criteria that can be applied to a class of waters (rather than individual waters).

• Include mechanisms for technology transfer.

Improved Approaches to TMDL Modeling

Development of best management practice (BMP) performance equations and/or statistical tools to assist in evaluation of waterbody recovery, based on a study of the physical, chemical, and biological processes governing the stochastic properties of pollutants in the environment. The project may lead to TMDL development, implementation, and/or water quality trading on a watershed basis.

The following specific criteria will be used to evaluate this priority area:

• Description of methods to be used to quantify the uncertainty in load estimates and load allocations, and/or the effectiveness of individual BMPs.

• Development of tools that may be transferred to meet the needs of others faced with developing TMDLs or monitoring waterbody recovery.

Ecoregion and Subregion Delineation

Ecoregion and subregion delineation providing an improved basis for waterbody classification, supporting definition of water quality management goals and expectations, development of water quality standards, and water quality monitoring and assessment.

The following specific criteria will be used to evaluate this priority area:

• Conducted in Louisiana, New Mexico, or Oklahoma.

• High degree of coordination among natural resource and environmental management agency scientists.

• Result in completion of ecoregion and subregion boundaries and descriptions for an entire state.

• Conducted using methods comparable to those employed in other states by the EPA Office of Research and Development, National Health and Environmental Effects Research Laboratory, to achieve level IV subregionalization.

• Result in a nationally consistent set of subregion management units.

Statutory Authority, Applicable Regulations, and Funding Level

Funding is authorized under the provisions of the CWA sec. 104(b)(3), 33 U.S.C. 1254(b)(3).

The regulations governing the award and administration of Water Quality Cooperative Agreements are in 40 CFR part 30 (for institutions of higher learning, hospitals, and other nonprofit organizations) and 40 CFR part 31 (for States, local governments, and interstate agencies).

Applicants requested to submit a full application will be required to comply with Intergovernmental Review requirements (40 CFR part 29) and the Quality Assurance requirements (40 CFR part 30.54 and 31.45) if projects involve environmentally related measurements or data generation.

Total funding available for award by Region 6 is dependent on EPA's appropriation for Fiscal Year 2003; however, it is estimated that $1 million, including the tribal allocation, will be available for funding approved projects. The average size of an award is anticipated to be approximately $100,000. A minimum match of five percent will be required for all approved projects and should be included in the total funding requested for each proposal submitted.

Construction projects, except for the construction required to carry out a demonstration project, and acquisition of land are not eligible for funding under this program. New or on-going programs to implement routine environmental controls are not eligible for funding under this program.

Proposal Format and Contents

IPs should be no more than three pages with a minimum font size of 10 pitch in Wordperfect/Word or equivalent. Failure to follow the format or to include all requested information could result in the IP not being considered for funding. Full application packages should not be submitted at this time. It is recommended that confidential information not be included in this IP. The following format should be used for all IPs:

Name of Project:

Priority Area Addressed: (i.e., CAFO Permitting Support, SSO Studies, Homeland Security for NPDES, etc.)

Point of Contact: (Individual and agency/organization name, address, phone number, fax number, e-mail address.)

Is this a Continuation of a Previously Funded Project: (If so, please provide the status of the current grant or cooperative agreement.)

Proposed Federal Amount:

Proposed Non-Federal Match (Minimum of 5%):

The match is based on the total project cost not the Federal amount. To determine a proposed minimum match of 5%, use the following example:

Federal amount = $25,000.

Total Project Cost = T.

The Federal amount is 95% of T, therefore:

$25,000 = T × 0.95;

$25,000 / 0.95 = T;

$26,316 = T (round the decimal).

If the total project cost is $26,316, then:

$26,316 × 0.05 = $1,316 non-Federal match.

Proposed Total Award Amount:

Description of General Budget Proposed to Support Project:

Project Description: (Should not exceed two pages of single-spaced text.)

Expected Accomplishments or Product, with Dates, and Interim Milestones: This section should also include a discussion of a communication plan for distributing the project results to interested parties.

Describe How the Project Meets the Evaluation Criteria Specified Below:

EPA IP Evaluation Criteria

EPA Region 6 will award WQCA on a competitive basis and evaluate IPs based on the specific criteria listed in each priority area and the following general criteria:

• Adequacy of proposal, including the relationship of the proposed project to the priorities identified in this notice, innovation of project proposal and level of multi-organizational support, if needed. (10 points)

• Compliance with proposal format/guidance, including how well the proposal follows the solicitation notice, clearly defined milestones/schedule and clearly identified deliverables. (5 points)

• Cost effectiveness/likelihood of success of the proposal, including adequacy of resources committed to project/realistic budget, realistic implementation schedule and clearly defined measures of success that are reasonably attainable. (5 points)

• Applicant's past performance, if applicable. (3 points)

The IPs will be evaluated by regional staff in a two phased approach. Initially, each IP will be evaluated against the specific criteria listed under the priority area for which it was submitted. In order for the IP to be considered in the second evaluation phase, it must address, at a minimum, ALL the specific criteria listed under the priority area. In the second phase, each IP will be evaluated against the general criteria listed above for a possible total score of 20. Points will be taken away for poor past performance if knowledge of applicant's past performance is available to EPA.

IP Selection

Final selection of IPs will be made by the Director of Water Quality Protection Division, EPA Region 6. Selected organizations will be notified in writing and requested to submit full applications. Applications, including workplans, are subject to EPA review and approval.

It is expected that unsuccessful applicants will be notified in writing.

Eligible Applicants

Eligible applicants for assistance agreements under section 104(b)(3) of the CWA are State water pollution control agencies, interstate agencies, other public or nonprofit agencies, institutions, organizations, and other entities as defined by the CWA. IPs received for projects outside of Region 6 will not be considered.

Application Procedure

Please mail three copies of the IP(s).

Dispute Resolution Process

Procedures located in 40 CFR part 30.63 and 30.70 apply.

Type of Assistance

It is expected that all the awards under this program will be cooperative agreements. States and interstate agencies meeting the requirements in 40 CFR part 35.504 may include the funds for WQCA in a Performance Partnership Grant (PPG) in accordance with the regulations governing PPGs in 40 CFR part 35, subparts A and B. For States and interstate agencies that choose to do so, the regulations provide that the workplan commitments that would have been included in the WQCA must be included in the PPG workplan.

A description of the Agency's substantial involvement in cooperative agreements will be included in the final agreement.

Schedule of Activities

This is the estimated schedule of activities for submission, review of proposals and notification of selections:

May 5, 2003—Proposals due to EPA.

July 2, 2003—Initial approvals identified and sponsors of projects selected for funding will be requested to submit a formal application package.

A list of selected projects will be posted on the Region 6 Water Quality Protection Division, Assistance Programs Branch Web site http://www.epa.gov/earth1r6/6wq/at/sttribal.htm. This Web site may also contain additional information about this request. Deadline extensions, if any, will be posted on this Web site and not in the Federal Register.

Dated: March 10, 2003.
Miguel I. Flores,
Director, Water Quality Protection Division, Region 6.

[FR Doc. 03-6576 Filed 3-18-03; 8:45 am]

BILLING CODE 6560-50-P